DEPARTMENT OF TRANSPORTATION

Federal Railroad Administration

Agency Request for Emergency Processing of Collections of Information Associated With Today's Publication of Solicitation of Applications and Notice of Funds Availability (NOFA)

AGENCY: Federal Railroad Administration, DOT.

ACTION: Notice.

SUMMARY: The Federal Railroad Administration (FRA) hereby gives notice that it has submitted the following information collection request (ICR) to the Office of Management and Budget (OMB) for Emergency Processing under the Paperwork Reduction Act of 1995 (Pub. L. 104-13, 44 U.S.C. 3501 et seq.). FRA requests that OMB authorize the collection of information identified below on or before February 29, 2008, for 180 days after the date of approval by OMB. A copy of this ICR, with applicable supporting documentation, may be obtained by calling FRA's Clearance Officers, Mr. Robert Brogan (tel. (202) 493-6292) or Ms. Gina Christodoulou (tel. (202) 493-6139). These numbers are not toll-free. A copy of this ICR may also be obtained electronically by contacting Mr. Brogan at robert.brogan@dot.gov or by contacting Ms. Christodoulou at gina.christodoulou@dot.gov. Comments and questions about the ICR identified below should be directed to the Office of Information and Regulatory Affairs (OIRA), Attn: FRA OMB Desk Officer, 725 17th St., NW., Washington, DC 20503. Comments and questions about the ICR identified below may also be transmitted electronically to OIRA at: oira_submissions@omb.eop.gov.

DATES: Comments should be submitted as soon as possible upon publication of this notice in the Federal Register.

Title: Solicitation of Applications and Notice of Funds Availability (NOFA) for the Capital Assistance to States—Intercity Rail Service Program.

OMB Control Number: 2130-New.

Frequency: One-time.

Affected Public: 50 States and District of Columbia/Their Partners.

Form(s): SF-424.

Other Instruments: Collection of Information Associated with the NOFA Published in Today's Federal Register.

Estimated Total Annual Number of Responses: 7.0 Grant Applications (Paper/Electronic).

Estimated Total Annual Burden Hours: 6,309 Hours.

Abstract: On December 16, 2007, President Bush signed Public Law 110-161, The Transportation, Housing and Urban Development, and Related Agencies Appropriations Act, 2008. As part of this Act, Congress provided $30 million to FRA to award in one or more grants for eligible projects related to capital improvements (fixed facilities and rolling stock) necessary to support improved or new intercity passenger services, and planning activities that lead to the development of a passenger rail corridor investment plan. Funds provided under this grant program may constitute no more than 50 percent of the total cost of a selected project, with the remaining cost funded from other sources. The funding provided under these grants will be made available to grantees on a reimbursement basis. FRA anticipates awarding grants to multiple eligible participants. FRA may choose to award a grant or grants within the available funds in any amount. Funding made available through grants provided under this program, together with funding from other sources that is committed by a grantee as part of a grant agreement, must be sufficient to complete the funded project and achieve the anticipated improvement to intercity passenger rail service. FRA will begin accepting grant applications on Monday, March 18, 2008. Applications may be submitted until the earlier of Wednesday, September 30, 2009, or the date on which all available funds will have been committed under this program.

Authority: 44 U.S.C. 3501-3520.

Issued in Washington, DC on February 12, 2008.
D.J. Stadtler,
Director, Office of Financial Management, Federal Railroad Administration.

[FR Doc. E8-3011 Filed 2-15-08; 8:45 am]

BILLING CODE 4910-06-P